ARCTIC RESEARCH COMMISSION

Invitation for the Public To Provide Recommendations to the U.S. Arctic Research Commission Regarding Future Goals for U.S. Arctic Research

AGENCY: Arctic Research Commission.

ACTION: Invitation for public comments and recommendations.

SUMMARY: The U.S. Arctic Research Commission is drafting its biennial report to the President an Congress on goals for the U.S. Arctic research program, due in January 2007. This notice is an invitation to the Arctic research community and the public at large to provide recommendations to the Commission for consideration in its “Report on Goals and Objectives 2007.”

Arctic research is conducted by 15 agencies of the United States government and is coordinated by the Interagency Arctic Research Policy Committee (IARPC) chaired by the National Science Foundation. Recent focus of U.S. Arctic research spans a number of goals and objectives including the study of Arctic climate change, geophysics, health of Arctic ecosystems, health of Arctic residents, assessment of Arctic resources, and studies of Arctic infrastructure. Under the Arctic Research and Policy Act of 1984, the seven citizen members of the U.S. Arctic Research Commission provide goals for that program which, if approved by the President, are incorporated into the nation's five year Arctic Research Plan. In its last report in 2005, submitted to the President and Congress, the Commission sought five broad research objectives for programs integrated across Federal agencies. The Commission also made specific recommendations to Federal agencies for work within their own programs, for international coordination of research and for investment in Arctic research infrastructure.

The public is invited to participate in the Commission's formulation of its recommendations for the 2007 Goals Report. We invite your comments and recommendations regarding the future U.S. Arctic research program and the Arctic research priorities of the Federal agencies. Comments should be addressed to Kathy Farrow at the Commission offices by e-mail at k.farrow@arctic.gov (in the subject line please insert “goals report”) or by fax 1-703-525-0114, and should be received at the Commission's Arlington, Virginia office by no later than 1 July 2006.

The Commission will meet to hear public comment and invited testimony regarding the future U.S. Arctic research program on the following dates:

Barrow, Alaska: 4 p.m. to 6 p.m., Tuesday, 27 June 2006 at the Inupiat Heritage Center.

Anchorage, Alaska: 2 p.m. to 4 p.m., Thursday, 29 June 2006 at the North Pacific Research Board, 1007 West 3rd Avenue, Suite 100, Anchorage.

Individuals wishing to address recommendations directly to the Commission while it is in session in Barrow or Anchorage should request a time slot from the Commission by e-mail or fax in advance of their desire to speak. They should include their name, address and telephone number. Speakers are limited to a maximum of five (5) minutes each. Written amplification of their public comments will be accepted at that time. Speaking period will be assigned on a first come, first served basis.

Copies of the “Report on Goals and Objectives 2005” and other documents of the Commission may be found at http://www.arctic.gov.

Any person planning to attend this meeting who requires special accessibility features and/or auxiliary aids, such as sign language interpreters, must inform the Commission in advance of those needs.

FOR FURTHER INFORMATION CONTACT: Kathy Farrow, U.S. Arctic Research Commission, 703-525-0111 or TDD 703-306-0090.

George B. Newton,
Chair, U.S. Arctic Research Commission.

[FR Doc. 06-4849 Filed 5-24-06; 8:45 am]

BILLING CODE 7555-01-M